NUCLEAR REGULATORY COMMISSION

Entergy Operations, Inc., Arkansas Nuclear One, Unit No. 1; Notice of Correction to Biweekly Notice Applications and Amendments to Operating Licenses Involving No Significant Hazards Considerations

On April 19, 2000 (65 FR 21034), the Federal Register published the Biweekly Notice of Applications and Amendments to Operating Licenses Involving No Significant Hazards Considerations. On page 21042, under Entergy Operations, Inc., Docket No. 50-313, the amendment number was incorrectly noted. It should read, “Amendment No.: 205.”

Dated at Rockville, Maryland, this 14th day of April 2000.
For the Nuclear Regulatory Commission.
M. Christopher Nolan,
Project Manager, Section 1, Project Directorate IV & Decommissioning, Division of Licensing Project Management, Office of Nuclear Reactor Regulation.

[FR Doc. 00-10740 Filed 4-28-00; 8:45 am]

BILLING CODE 7590-01-P